DEPARTMENT OF THE INTERIOR

Bureau of Indian Affairs

Notice of Availability of Draft Environmental Impact Statement for the Proposed Transfer From Fee-to-Trust Land of Oneida Indian Nation of New York Land in Oneida and Madison Counties, New York; Additional Public Hearing and Extension of Comment Period

AGENCY: Bureau of Indian Affairs, Interior.

ACTION: Notice of additional public hearing and extension of comment period.

SUMMARY: This notice advises the public that the Bureau of Indian Affairs (BIA) will be holding an additional public hearing to receive comments on its Draft Environmental Impact Statement (DEIS) for the proposed fee-to-trust transfer of Oneida Indian Nation of New York land in Oneida and Madison Counties, New York. This notice also reminds the public that the public comment period for the DEIS has been extended to February 22, 2007, as announced in the Federal Register on January 5, 2007, by the Environmental Protection Agency (EPA), and in local media by the BIA. The EPA's original notice of availability for the DEIS and the BIA's supplement to the EPA notice, both of which were published in the Federal Register on November 24, 2006, announced a closing date for comments of January 8, 2007.

DATES: Written comments on the DEIS must arrive by February 22, 2007. The public hearing will be held February 6, 2007, from 6 p.m. to 10 p.m., or until everyone who wishes to do so has the opportunity to speak.

ADDRESSES: You may mail, hand carry or fax written comments to Mr. Franklin Keel, Regional Director, Eastern Region, Bureau of Indian Affairs, 545 Marriott Drive, Suite 700, Nashville, Tennessee 37214, Fax (615) 564-6701. Please include your name, return address and the caption, “DEIS Comments, Oneida Indian Nation of New York Trust Acquisition Project,” on the first page of your written comments. Electronic submission is not available.

The public hearing will be at the Vernon-Verona-Sherrill School, 5275 State Route 31, Verona, New York 13478.

Copies of the DEIS are available for viewing at Web site http://www.oneidanationtrust.net and at the following locations: (1) Oneida Nation Annex Building, 579A Main Street, Oneida, New York 13421 (10 a.m. to 4 p.m. Monday through Friday except holidays); (2) Oneida City Hall, 109 N. Main Street, Downstairs Basement Room, Oneida, New York 13421; and (3) Town of Verona Town Hall, 6600 Germany Road, Back Conference Room, Durhamville, New York 13054.

FOR FURTHER INFORMATION CONTACT: Kurt G. Chandler, (615) 564-6832.

SUPPLEMENTARY INFORMATION: The proposed action is to transfer approximately 17,370 acres of Oneida Indian Nation-owned land in Madison and Oneida Counties, New York, from fee to trust status for the benefit of the Nation. Details on the proposed action and DEIS contents may be found in the above-referenced Notice published in the Federal Register on November 24, 2006 (71 FR 67896).

Public Comment Availability

Comments, including names and addresses of respondents, will be available for public review at the BIA address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), the Department of the Interior Manual (516 DM 1-6), and is in the exercise of authority delegated to the Principal Deputy Assistant Secretary—Indian Affairs by 209 DM 8.

Dated: January 9, 2007.
Michael D. Olsen,
Principal Deputy Assistant Secretary—Indian Affairs.

[FR Doc. E7-743 Filed 1-18-07; 8:45 am]

BILLING CODE 4310-W7-P